DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the National Intelligence University Board of Visitors (“the Board”).

FOR FURTHER INFORMATION CONTACT: Jim Freeman, Advisory Committee Management Officer for the Department of Defense, 703-692-5952.

SUPPLEMENTARY INFORMATION: The Board's charter is being renewed in accordance with the Federal Advisory Committee Act (FACA) of 1972 (5 U.S.C., Appendix, as amended) and 41 CFR 102-3.50(d). The Board's charter and contact information for the Board's Designated Federal Officer (DFO) can be found at http://www.facadatabase.gov/.

The Board provides the Secretary of Defense and the Deputy Secretary of Defense, through the Under Secretary of Defense for Intelligence (USD(I)) and the Director, Defense Intelligence Agency, independent advice and recommendations on matters related to the mission, policy, accreditation, faculty, students, facilities, curricula, educational methods, research, and administration of the National Intelligence University.

The Board is composed of no more than 12 members who have extensive professional experience in the fields of national intelligence, national defense, and academia. The following ex-officio positions shall also serve on the Board: The Under Secretary for Intelligence and Analysis, U.S. Department of Homeland Security; the Assistant Director of National Intelligence for Human Capital and Chief Human Capital Officer for the Intelligence Community, DoD Office of the Director of National Intelligence, and; the Deputy Executive Director of management and Learning, Central Intelligence Agency and Chief Learning Officer, Central Intelligence Agency University. All members of the Board are appointed to provide advice on behalf of the Government on the basis of their best judgment without representing any particular point of view and in a manner that is free from conflict of interest. Except for reimbursement of official Board -related travel and per diem, Board members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: June 5, 2018.
Shelly E. Finke,
Alternate OSD Federal Register Liaison Officer, Department of Defense.

[FR Doc. 2018-12439 Filed 6-8-18; 8:45 am]

BILLING CODE 5001-06-P